DEPARTMENT OF COMMERCE

Economic Development Administration

Notice of Petitions by Producing Firms for Determination of Eligibility to Apply for Trade Adjustment Assistance

AGENCY: Economic Development Administration (EDA), Commerce.

ACTION: To Give Firms an Opportunity to Comment.

Petitions have been accepted for filing on the dates indicated from the firms listed below.

List of Petition Action by Trade Adjustment Assistance for Period 2/16/01-3/15/01
Firm name | Address | Date accepted petition | Product
Golden Casting Corporation | 1616 Tenth Street, Columbus, IN 47201 | 02/20/01 | Engine blocks and heads for large diesel trucks.
DaMa Jewelry Technology, Inc. | 25 Oakdale Avenue Johnston, RI 02919 | 02/21/01 | Earring backs and earring related components primarily of base metals.
Challenge Machinery Company (The) | 1433 Fulton Street, Grand Rapids, MI 49417 | 02/21/01 | Graphic arts machinery and precision surface products.
Brophy Clay Things, Inc. | 826 Eyrie Drive, Oviedo, FL 32765 | 03/01/01 | Ceramic novelty items marketed as “Word Jars”.
R. W. Chang & Co., Inc. | 1202 Foundation Pky, Grand Prairie, TX 75050 | 03/01/01 | Picture frames of wood.
Greco Manufacturing, Inc. dba Greco Homes | 11403 58th Avenue East, Puyallup, WA 98373 | 03/01/01 | Prefabricated wood buildings.
Electronic Design & Sales, Inc. | 1 EDS Way, Danville, VA 24541 | 03/01/01 | Electronic assemblies, including coils and transformer.
Jewett Automation, Inc. | 2901 Maury Street, Richmond, VA 23224 | 03/01/01 | Custom automation machinery.
General Tool Specialties, Inc. | 284 Sunnymead Road, Hillsborough, NJ 08844 | 03/01/01 | Molds for plastic injection, compression and transfer, and aluminum die castings.
Benee's Toys, Inc. | 1602 Airpark Drive, Farmington, MO 63640 | 03/02/01 | Children's rubber and wooden school furniture, and tricycles.
Custom Machine & Tool Company, Inc. | 22 Station Street, E. Weymouth, MA 02189 | 03/02/01 | Timing belt pulleys, pulley stock and flanges of aluminum and steel.
Johnston Industries, Inc. | 105 13th Street, Columbus, GA 31901 | 03/02/01 | Woven textile fabrics products of cotton, man-made and blended fibers.
Pure Water, Inc. | 3725 Touzalin Avenue, Lincoln, NE 68507 | 03/02/01 | Water purifying machinery and filters.
Manchester Wood, Inc. | 180 North Street, Granville, NY 12832 | 03/05/01 | Wood furniture.
Products Finishing Corporation | 350 Clarkson Street, Brooklyn, NY 11226 | 03/08/01 | Portable folding specialty and luggage carts.
Fabwell Corporation | 8410 S. Regency Drive, Tulsa OK 74131 | 03/14/01 | Steel tanks.
Kauai Coffee, Inc. | P.O. Box 8, Eleele, HI 96705 | 03/14/01 | Coffee.
Barrett's Busy B's Cedar | 788 Barrett Road, Priest River, ID 83856 | 03/14/01 | Cedar fence boards and posts.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: March 14, 2001.
Anthony J. Meyer,
Coordinator, Trade Adjustment and Technical Assistance.

[FR Doc. 01-6978 Filed 3-20-01; 8:45 am]

BILLING CODE 3510-24-P